FEDERAL MARITIME COMMISSION

Meeting; Sunshine Act

AGENCY HOLDING THE MEETING: Federal Maritime Commission.

TIME AND DATE: 10 a.m.—June 20, 2001.

PLACE: 800 North Capitol Street, NW., First Floor Hearing Room, Washington, DC.

STATUS: Closed.

MATTERS TO BE CONSIDERED: 1. Docket No. 98-14—Shipping Restrictions, Requirements and Practices of the Peoples Republic of China.

2. Docket No. 96-20—Port Restrictions and Requirements in the United States/Japan Trade.

3. Docket No. 94-01—Ceres Marine Terminals, Inc. v. Maryland Port Administration.

CONTACT PERSON FOR MORE INFORMATION: Bryant L. VanBrakle, Secretary, (202) 523-5725.

Bryant L. VanBrakle,
Secretary.

[FR Doc. 01-14886 Filed 6-8-01; 2:23 pm]

BILLING CODE 6730-01-M